DEPARTMENT OF TRANSPORTATION

Federal Aviation Administration

14 CFR Part 71

[Docket No. FAA-2003-14931; Airspace Docket No. 03-ACE-34]

Modification of Class D Airspace; and Modification of Class E Airspace; Kansas City Downtown Airport, MO

AGENCY: Federal Aviation Administration (FAA), DOT.

ACTION: Direct final rule; request for comments.

SUMMARY: Kansas City Downtown Airport, MO has been renamed Kansas City Charles B. Wheeler Downtown Airport, MO. An examination of controlled airspace for Kansas City Downtown Airport, MO revealed a discrepancy in the location of the Riverside VHF Omni-directional Range (VOR)/Distance Measuring Equipment (DME) used in the legal description for the Kansas City Downtown Airport, MO Class E airspace area.

The intended effect of this rule is to replace “Kansas City Downtown Airport, MO” in the titles of Class D and Class E4 airspace areas with “Kansas City Charles B. Wheeler Downtown Airport, MO,” to replace “Kansas City Downtown Airport, MO” with “Kansas City Charles B. Wheeler Downtown Airport, MO” in the legal descriptions of these airspace areas, to incorporate the current position of the Riverside VOR/DME in the Class E4 airspace area legal description and to comply with the criteria of FAA Order 7400.2E.

DATES: This direct final rule is effective on 0901 UTC, September 4, 2003.

Comments for inclusion in the Rules Docket must be received on or before June 10, 2003.

ADDRESSES: Send comments on this proposal to the Docket Management System, U.S. Department of Transportation, Room Plaza 401, 400 Seventh Street, SW., Washington, DC 20590-0001. You must identify the docket number FAA-2003-14931/Airspace Docket No. 03-ACE-34, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION: This amendment to 14 CFR 71 modifies the titles of the Class D airspace of the Class E airspace are identified as an extension to the Class D airspace area at Kansas City Downtown Airport MO. It renames the airspace areas “Kansas City Charles B. Wheeler Downtown Airport, MO” and replaces the former airport name with the new airport name in the legal descriptions. This amendment also updates the location of the Riverside VOR/DME in the legal description of the Class E airspace area. It brings the legal description of these airspace areas into compliance with FAA Order 7400.2E, Procedures for Handling Airspace Matters. The areas will be depicted on appropriate aeronautic charts. Class D airspace areas area published in paragraph 5000 of FAA Order 7400.9K, dated August 30, 2002, and effective September 16, 2002, which is incorporated by reference in 14 CFR 71.1. Class E airspace areas designated as an extension to a Class D or Class E Surface Area are published in paragraph 6004 of the same FAA Order. The Class D and Class E airspace designations, listed in this document will be published subsequently in the Order.

The Direct Final Rule Procedure

The FAA anticipates that this regulation will not result in adverse or negative comment and, therefore, is issuing it as a direct final rule. Previous actions of this nature have not been controversial and have not resulted in adverse comments or objections. Under a written adverse or negative comment, or a written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulemaking may be published with a new comment period.

Comments Invited

Interested parties are invited to participate in this rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2003-14931/Airspace Docket No. 03-ACE-34.” The postcard will be date/time stamped and returned to the commenter.

Agency Findings

The regulations adopted herein will not have a substantial direct effect on the States, on the relationship between the national Government and the States, or on the distribution of power and responsibilities among the various levels of government. Therefore, it is determined that this final rule does not have federalism implications under Executive Order 13132.

The FAA has determined that this regulation is noncontroversial and unlikely to result in adverse or negative comments. For the reasons discussed in the preamble, I certify that this regulation (1) is not a “significant regulatory action” under Executive Order 12866; (2) is not a “significant rule” under Department of Transportation (DOT) Regulatory Policies and Procedures (44 FR 11034, February 26, 1979); and (3) if promulgated, will not have a significant economic impact, positive or negative, on a substantial number of small entities under the criteria of the Regulatory Flexibility Act.

List of Subjects 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g) 40103, 40113, 40120; E.O. 10854, 24 FR 9565, 3 CFR, 1959-1963 Comp., p. 389

§ 71.1 [Amended]

2. The incorporation by reference in 14 CFR 71.1 of Federal Aviation Administration Order 7400.9K, dated August 30, 2002, and effective September 16, 2002, is amended as follows:

Paragraph 5000 Class D Airspace.

* * * * *

ACE MO D Kansas City Charles B. Wheeler Downtown Airport, MO

Kansas City Charles B. Wheeler Downtown Airport, MO

(Lat. 39°07′24″ N., long. 94°35′34″ W.)

That airspace extending upward from the surface to and including 3,300 feet MSL within a 4.2-mile radius of Kansas City Charles B. Wheeler Downtown Airport; excluding that airspace within the Kansas City, MO Class B airspace area.

* * * * *

Paragraph 6002 Class E Airspace Designated as Surface Areas.

* * * * *

ACE MO E4 Kansas City Charles B. Wheeler Downtown Airport, MO

Kansas City Charles B. Wheeler Downtown Airport, MO

(Lat. 39°07′24″ N., long. 94°35′34″ W.)

Riverside VOR/DME

(Lat. 39°07′13″ N., long. 94°35′48″ W.)

That airspace extending upward from the surface within 1.3 miles each side of the Riverside VOR/DME 043° radial extending from the 4.2-mile radius of the Kansas City Charles B. Wheeler Downtown Airport to 5.3 miles northeast of the VOR/DME and within 1.3 miles each side of the Riverside VOR/DME 215° radial extending from the 4.2-mile radius of the airport to 5.3 miles southwest of the VOR/DME and within 1.8 each side of the Riverside VOR/DME 013° radial extending from the 4.2-mile radius of the airport to 9.2 miles north of the VOR/DME.

* * * * *

Issued in Kansas City, MO, on April 23, 2003.
Herman J. Lyons, Jr.,
Manager, Air Traffic Division, Central Region.

[FR Doc. 03-11030 Filed 5-2-03; 8:45 am]

BILLING CODE 4910-13-M